DEPARTMENT OF COMMERCE

International Trade Administration

[A-570-601]

Tapered Roller Bearings From the People's Republic of China; Final Results of Full Sunset Review:

AGENCY: Import Administration, International Trade Administration, Department of Commerce.

ACTION: Notice of Final Results of Full Sunset Review: Tapered Roller Bearings from the Peoples Republic of China.

SUMMARY: On October 22, 1999, the Department of Commerce (“the Department”) published a notice of preliminary results of the full sunset review of the antidumping duty order on tapered roller bearings (“TRBs”) from the People's Republic of China (64 FR 57034) pursuant to section 751(c) of the Tariff Act of 1930, as amended (“the Act”). We provided interested parties an opportunity to comment on our preliminary results. We received comments from both domestic and respondent interested parties and held a public hearing. As a result of this review, the Department finds that revocation of this order would be likely to lead to continuation or recurrence of dumping.

For Further Information Contact: Kathryn B. McCormick or Melissa G. Skinner, Office of Policy for Import Administration, International Trade Administration, U.S. Department of Commerce, 14th Street and Constitution Avenue, NW, Washington, D.C. 20230; telephone: (202) 482-1930 or (202) 482-1560, respectively.

Effective Date: March 3, 2000.

Statute and Regulations:

This review was conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”), and in 19 CFR Part 351 (1999) in general. Guidance on methodological or analytical issues relevant to the Department's conduct of sunset reviews is set forth in the Department's Policy Bulletin 98:3 “Policies Regarding the Conduct of Five-year (“Sunset”) Reviews of Antidumping and Countervailing Duty Orders; Policy Bulletin, 63 FR 18871 (April 16, 1998) (“Sunset Policy Bulletin”).

Background

On October 22, 1999, the Department of Commerce (“the Department”) published in the Federal Register a notice of preliminary results of the full sunset review of the antidumping duty order on TRBs pursuant to section 751(c) of the Tariff Act of 1930, as amended (the Act). In our preliminary results, we found that revocation of the order would be likely to lead to continuation or recurrence of dumping. In addition, we preliminarily determined the following margins likely to prevail if the order were revoked:

Producer/exporter | Margin (percent)
Zheijiang Changshan Changhe Bearing Co. (“ZCCBC”) | 0.00
China National Machinery Import & Export Corp. (“CMC”) | 0.03
Zheijiang Wanxiang Group | 0.03
Zheijiang Machinery Import & Export Corp | 0.11
Luoyang | 3.20
Premier | 5.43
Liaoning | 9.72
Guizhou Machinery | 21.79
Wafangdian | 29.40
Jilin | 29.40
China National Machinery Import & Export Corp. (“CMEC”) | 29.40
Guizhou Automotive | 29.40
Tianshui Hailin | 29.40
Xiangyiang | 29.40
Xibei | 29.40
All Others | 29.40

On December 7, 1999, within the deadline specified in 19 CFR 351.209(c)(1)(i), we received a case brief on behalf of domestic interested parties, The Timken Company (“Timken”) and The Torrington Company (“Torrington”) (collectively “domestic interested parties”). We also received a case brief on behalf of Zheijiang Machinery Import & Export Corporation (“Zheijiang Machinery”); Liaoning Mec Group, Ltd. (“Liaoning”); Luoyang Bearing Corporation (Group) (“Luoyang”); Zheijiang Changshan Changhe Bearing Co., Ltd. (“ZCCBC”); Zheijiang Wanxiang Group (“Wanxiang”); China National Machinery Import & Export Corporation (“CMC”); ¹ Xibei Bearing Group Import & Export Co., Ltd. (“Xibei”); Xiangyiang Bearing Factory (“Xiangyiang”); and the China TRB Sunset Coalition (“China Coalition”) (collectively “respondent interested parties”). On December 13, 1999, within the deadline specified in 19 CFR 351.309(d), the Department received rebuttal comments from domestic and respondent interested parties. On December 15, 1999, the Department held a public hearing.

¹ CMC is a different and distinct company from CMEC.

Scope of Review

The merchandise covered by this antidumping duty order (52 FR 22667, June 15, 1987) includes TRBs and parts thereof, finished and unfinished, from the PRC; flange, take up cartridge, and hanger units incorporating tapered roller bearings; and tapered roller housings (except pillow blocks) incorporating tapered rollers, with or without spindles, whether or not for automotive use. The subject merchandise was originally classified under item numbers 680.30, 680.39, 681.10, 692.32 of the Tariff Schedules of the United States Annotated (“TSUSA”); currently, according to the U.S. Customs Service, they are classifiable under item numbers 8482.20.00.10, 8482.20.00.20, 8482.20.00.30, 8482.20.00.40, 8482.20.00.50, 8482.20.00.60, 8482.20.00.70, 8482.20.00.80, 8482.91.00.50, 8482.99.15.00, 8482.99.15.40, 8482.99.15.80, 8483.20.40.80, 8483.20.80.80, 8483.30.80.20, 8708.99.80.15 and 8708.99.80.80 of the Harmonized Tariff Schedule of the United States (“HTSUS”) (see June 8, 1999, Memorandum to File: HTSUS Numbers for Tapered Roller Bearings). Although the above HTSUS and TSUSA subheadings are provided for convenience and customs purposes, the written description remains dispositive.

In the ninth administrative review (62 FR 61276, 61289, November 17, 1997), the Department clarified the scope of the order when it added two additional HTSUS numbers (8708.99.90.15 and 8708.99.80.80) applicable to imports of the subject merchandise which previously had not been identified in the order. The above HTSUS numbers correspond to subject merchandise previously classified under TSUSA item number 692.32 in the original antidumping order. We note that scope rulings are made on an order-wide basis.

Analysis of Comments Received

All issues raised in the case and rebuttal briefs by parties to this sunset review are addressed in the “Issues and Decision Memorandum” (“Decision Memo”) from Jeffrey A. May, Director, Office of Policy, Import Administration, to Robert S. La Russa, Assistant Secretary for Import Administration, dated February 25, 2000, which is hereby adopted and incorporated by reference into this notice. The issues discussed in the attached Decision Memo include the likelihood of continuation or recurrence of dumping and the magnitude of the margin likely to prevail were the order revoked. Parties can find a complete discussion of all issues raised in this review and the corresponding recommendations in this public memorandum which is on file in the Central Records Unit, room B-099, of the main Commerce Building..

In addition, a complete version of the Decision Memo can be accessed directly on the Web at www.ita.doc.gov/import_admin/records/frn/, under the heading “China.” The paper copy and electronic version of the Decision Memo are identical in content.

Final Results of Review

We determine that revocation of the antidumping duty order on TRBs from China would be likely to lead to continuation or recurrence of dumping at the following percentage weighted-average margins:

Manufacturer/exporters | Margin (percent)
Producer/Exporter:
Zheijiang Changshan Changhe Bearing Co. (“ZCCBC”) | 0.00
China National Machinery Import & Export Corp. (“CMC”) | 0.03
Zheijiang Wanxiang Group | 0.03
Zheijiang Machinery Import & Export Corp. | 0.11
Luoyang | 3.20
Premier | 5.43
Liaoning | 9.72
China National Machinery Import & Export Corp. (“CMEC”) | 29.40
All Others | 29.40

This five-year (“sunset”) review and notice are in accordance with sections 751(c), 752, and 777(i)(1) of the Act.

Dated: February 25, 2000.
Robert S. LaRussa,
Assistant Secretary for Import Administration.

[FR Doc. 00-5211 Filed 3-2-00; 8:45 am]

BILLING CODE 3510-DS-P